DEPARTMENT OF TRANSPORTATION

Federal Aviation Administration

14 CFR Part 39

[Docket No. FAA-2010-0122; Directorate Identifier 2009-CE-067-AD]

RIN 2120-AA64

Airworthiness Directives; Piper Aircraft, Inc. Models PA-32R-301T and PA-46-350P Airplanes

AGENCY: Federal Aviation Administration (FAA), Department of Transportation (DOT).

ACTION: Notice of proposed rulemaking (NPRM).

SUMMARY: We propose to adopt a new airworthiness directive (AD) for certain Piper Aircraft, Inc. Models PA-32R-301T and PA-46-350P airplanes. This proposed AD would require you to replace any spot-welded V-band exhaust coupling with a riveted V-band exhaust coupling. This proposed AD results from reports that spot-welded V-band exhaust couplings are failing. We are proposing this AD to prevent failure of the V-band exhaust coupling, which could cause the exhaust pipe to detach from the turbocharger. This failure could result in release of high temperature gases inside the engine compartment and possibly cause an in-flight fire. An in-flight fire could lead to loss of control.

DATES: We must receive comments on this proposed AD by April 5, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

FOR FURTHER INFORMATION CONTACT: Darby Mirocha, Aerospace Engineer, FAA, Atlanta Aircraft Certification Office (ACO), 1701 Columbia Avenue, College Park, Georgia 30337; telephone: (404) 474-5573; fax: (404) 474-5606; e-mail: darby.mirocha@faa.gov.

SUPPLEMENTARY INFORMATION:

Comments Invited

We invite you to send any written relevant data, views, or arguments regarding this proposed AD. Send your comments to an address listed under the ADDRESSES section. Include the docket number, “FAA-2010-0122; Directorate Identifier 2009-CE-067-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received reports that spot-welded V-band exhaust couplings that are installed on certain Piper Aircraft, Inc. Models PA-32R-301T and PA-46-350P airplanes are failing.

The V-band exhaust coupling attaches the exhaust pipe to the engine's turbocharger. The spot welds on the coupling can fail and the coupling may become detached from the turbocharger and expose the firewall to hot exhaust gases.

Several failures of part number 40D21162-340M, a Lycoming spot-welded coupling, on other airplane models have occurred, and some of the failures resulted in an in-flight fire. These failures caused us to issue the following ADs:

• AD 2004-23-17, Amendment 39-13872 (69 FR 67809, November 22, 2004), applicable to Mooney Airplane Company, Inc. Model M20M airplanes; and

• AD 2000-11-04, Amendment 39-11752 (65 FR 34941, June 1, 2000), applicable to Commander Aircraft Company Model 114TC airplanes.

A newer and more robust design V-band exhaust coupling has been developed by the Lycoming supplier that is assembled using rivets instead of spot welds.

This condition, if not corrected, could result in failure of the V-band exhaust coupling, which could cause the exhaust pipe to detach from the turbocharger. This failure could result in release of high temperature gases inside the engine compartment and possibly cause an in-flight fire. An in-flight fire could lead to loss of control.

FAA's Determination and Requirements of the Proposed AD

We are proposing this AD because we evaluated all information and determined the unsafe condition described previously is likely to exist or develop on other products of the same type design. This proposed AD would require replacing any spot-welded V-band exhaust coupling with a riveted V-band exhaust coupling.

Costs of Compliance

We estimate that this proposed AD could affect up to 596 airplanes in the U.S. registry provided they had the affected V-band exhaust coupling installed.

We estimate the following costs to do the proposed replacement:

Labor cost | Parts cost | Total cost per airplane | Total cost on U.S. operators based on all airplanes having the affected V-band exhaust coupling installed
2 work-hours × $85 per hour = $170 | $714 | $884 | $526,864

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Piper Aircraft, Inc.: Docket No. FAA-2010-0122; Directorate Identifier 2009-CE-067-AD.

Comments Due Date

(a) We must receive comments on this airworthiness directive (AD) action by April 5, 2010.

Affected ADs

(b) None.

Applicability

(c) This AD applies to the following airplane models and serial numbers that are certificated in any category:

Model | Serial numbers
PA-32R-301T | 3257001 through 3257311.
PA-46-350P | 4622001 through 4622200 and 4636001 through 4636341.

Subject

(d) Air Transport Association of America (ATA) Code 78: Engine Exhaust.

Unsafe Condition

This AD is the result of reports that spot-welded V-band exhaust couplings are failing. We are issuing this AD to prevent failure of the V-band exhaust coupling, which could cause the exhaust pipe to detach from the turbocharger. This failure could result in release of high temperature gases inside the engine compartment and possibly cause an in-flight fire. An in-flight fire could lead to loss of control.

Compliance

(e) To address this problem, you must do the following, unless already done:

Actions | Compliance | Procedures
(1) Replace V-band exhaust couplings, part number (P/N) Lycoming 40D21162-340M or Eaton/Aeroquip 55677-340M with an improved design Eaton/Aeroquip P/N NH1009399-10 or Lycoming P/N 40D23255-340M | At the next regularly scheduled maintenance event after the effective date of this AD or within the next 25 hours time-in-service (TIS) after the effective date of this AD, whichever occurs first | Remove the spot welded V-band clamp and discard. Install the new riveted clamp and tighten to an initial torque of 40 in. lbs. Tap the V-band clamp around its circumference with a rubber mallet to equalize band tension. Retorque the clamp to 60 in. lbs. and again tap the clamp around its circumference. Retorque the clamp to a 60 in. lbs. final torque and re-safety wire the V-band coupling.
(2) Do not install any Eaton/Aeroquip P/N 55677-340M or Lycoming P/N 40D21162-340M | As of the effective date of this AD | Not applicable.

Alternative Methods of Compliance (AMOCs)

(f) The Manager, Atlanta Aircraft Certification Office (ACO), FAA, has the authority to approve AMOCs for this AD, if requested using the procedures found in 14 CFR 39.19. Send information to ATTN: Darby Mirocha, Aerospace Engineer, FAA, Atlanta ACO, 1701 Columbia Avenue, College Park, Georgia 30337; telephone: (404) 474-5573; fax: (404) 474-5606. Before using any approved AMOC on any airplane to which the AMOC applies, notify your appropriate principal inspector (PI) in the FAA Flight Standards District Office (FSDO), or lacking a PI, your local FSDO.

Issued in Kansas City, Missouri, on February 9, 2010.
Steven W. Thompson,
Acting Manager, Small Airplane Directorate, Aircraft Certification Service.

[FR Doc. 2010-3288 Filed 2-18-10; 8:45 am]

BILLING CODE 4910-13-P